DEPARTMENT OF DEFENSE

Office of the Secretary

32 CFR Part 240

[DOD-2008-OS-0050]

RIN 0790-AI28

DoD Information Assurance Scholarship Program (IASP)

AGENCY: Department of Defense (DoD), DoD Chief Information Officer (DoD CIO)

ACTION: Final rule.

SUMMARY: This part implements policy, responsibilities and procedures for executing an information assurance scholarship and grant program, known as the DoD Information Assurance Scholarship Program (IASP). The DoD IASP will be used to recruit and retain the nation's top information assurance and information technology talent, which is critical as DoD progresses into the cybersecurity arena.

DATES: This rule is effective April 13, 2012.

FOR FURTHER INFORMATION CONTACT: Joyce France, (571) 372-4652.

SUPPLEMENTARY INFORMATION: This rule will add a part to DoD regulations to implement policy, responsibilities and procedures for executing an information assurance scholarship and grant program, known as the DoD Information Assurance Scholarship Program (IASP). Authorized by 10 U.S.C. 2200, the DoD IASP will be used to recruit and retain the nation's top information assurance and information technology talent, which is critical as DoD progresses into the cybersecurity arena.

The DoD IASP proposed rule, 32 CFR part 240, was published to the Federal Register, (75 FR 9142) on Monday, March 1, 2010 for public comments. The comment period ended on April 30, 2010. DoD received no comments. However, the Department did make minor changes to the final rule that were not included in the proposed rule. These changes were based upon additional coordination of the rule document within the Department and will help clarify policy, responsibilities, and procedures pertaining to the implementation of the scholarship program.

Executive Order 12866, “Regulatory Planning and Review” and Executive Order 13563, “Improving Regulation and Regulatory Review”

It has been certified that 32 CFR part 240 does not:

(1) Have an annual effect on the economy of $100 million or more or adversely affect in a material way the economy; a section of the economy; productivity; competition; jobs; the environment; public health or safety; or State, local, or tribal governments or communities;

(2) Create a serious inconsistency or otherwise interfere with an action taken or planned by another Agency;

(3) Materially alter the budgetary impact of entitlements, grants, user fees, or loan programs, or the rights and obligations of recipients thereof; or

(4) Raise novel legal or policy issues arising out of legal mandates, the President's priorities, or the principles set forth in these Executive Orders.

Sec. 202, Pub. L. 104-4, “Unfunded Mandates Reform Act”

It has been certified that 32 CFR part 240 does not contain a Federal mandate that may result in expenditure by State, local and tribal governments, in aggregate, or by the private sector, of $100 million or more in any one year.

Public Law 96-354, “Regulatory Flexibility Act” (5 U.S.C. 601)

It has been certified that 32 CFR part 240 is not subject to the Regulatory Flexibility Act (5 U.S.C. 601) because it would not, if promulgated, have a significant economic impact on a substantial number of small entities.

Public Law 96-511, “Paperwork Reduction Act” (44 U.S.C. Chapter 35)

Section 240.7 of this rule contains information collection requirements. DoD has submitted the following proposal to OMB under the provisions of the Paperwork Reduction Act (44 U.S.C. Chapter 35).

Title: DoD Information Assurance Scholarship Program (IASP).

Type of Request: New.

Number of Respondents: 422.

Responses per Respondent: 1.

Annual Responses: 422.

Average Burden per Response: 4.16 hours.

Annual Burden Hours: 1,755 hours.

Needs and Uses: The National Security Agency (NSA) is the Executive Administrator of the DoD Information Assurance Scholarship Program (IASP), serving on behalf of the DoD Chief Information Officer. Those who wish to participate in the DoD IASP Recruitment program must complete and submit an application package through their college or university to NSA. Centers of Academic Excellence in Information Assurance Education and Research (CAEs) interested in applying for capacity-building grants must complete and submit a written proposal, and all colleges and universities subsequently receiving grants must provide documentation on how the grant funding was utilized and the resulting accomplishments. In addition, DoD IASP participants and their faculty advisors (Principal Investigators) are required to complete annual program assessment documents. Without this written documentation, the DoD has no means of judging the quality of applicants to the program or collecting information regarding program performance.

Affected Public: “Individuals or households,” specifically college students at institutions designated as CAEs who are interested in, and qualified to, apply for a scholarship; CAEs interested in submitting proposals for capacity-building grants, and faculty advisors (Principal Investigators).

Frequency: Annually.

Respondent's Obligation: Required to obtain or retain benefits.

Executive Order 13132, “Federalism”

It has been certified that 32 CFR part 240 does not have federalism implications, as set forth in Executive Order 13132. This rule does not have substantial direct effects on:

(1) The States;

(2) The relationship between the National Government and the States; or

(3) The distribution of power and responsibilities among the various levels of Government.

List of Subjects in 32 CFR Part 240

Scholarships and grants.

Accordingly 32 CFR part 240 is added to read as follows:

PART 240—DOD INFORMATION ASSURANCE SCHOLARSHIP PROGRAM (IASP)

Sec.
240.1 Purpose.
240.2 Applicability.
240.3 Definitions.
240.4 Policy.
240.5 Responsibilities.
240.6 Retention program.
240.7 Recruitment program.

Authority: 10 U.S.C. 2200, 10 U.S.C. 7045.

§ 240.1 Purpose.

This part implements policy, responsibilities and procedures for executing the DoD Information Assurance Scholarship Program (IASP).

§ 240.2 Applicability.

This part applies to the Office of the Secretary of Defense, the Military Departments, the Office of the Chairman of the Joint Chiefs of Staff and the Joint Staff, the Combatant Commands, the Office of the Inspector General of the Department of Defense, the Defense Agencies, the DoD Field Activities, and all other organizational entities within the Department of Defense (hereafter referred to collectively as the “DoD Components”). The term “Military Services,” as used herein, refers to the Army, the Navy, the Air Force, and the Marine Corps.

§ 240.3 Definitions.

The following definitions are used in this part:

CAE. A collective term that refers to both CAE/IAE and CAE-R.

CAE/IAE. An institution of higher education that has met established criteria for IA education and has been jointly designated by the Department of Homeland Security and the NSA as a national center of excellence.

CAE-R. An institution of higher education which has met established criteria for IA research and has been jointly designated by the Department of Homeland Security and the NSA as a national center of excellence.

IA. For the purpose of this part, the term “IA” includes computer security, network security, cybersecurity, cyber operations, and other relevant IT related to information assurance pursuant to 10 U.S.C. 2200e.

IT. For the purpose of this part, the term “IT” refers to any equipment or interconnected system or subsystem of equipment that is used in the automatic acquisition, storage, manipulation, management, movement, control, display, switching, interchange, transmission, or reception of data or information. “IT” includes computers, ancillary equipment, software, firmware, and similar procedures, services (including support services), and related resources.

Institution of Higher Education. For the purpose of this part and as defined in 20 U.S.C. 1001, an “institution of higher education” refers to an educational institution in any state that:

(1) Admits as regular students only individuals who possess a certificate of graduation from a school providing secondary education, or the recognized equivalent of such a certificate;

(2) Is legally authorized to provide a program of education beyond secondary education;

(3) Provides an educational program that awards bachelor's degrees, or provides no less than a 2-year program that is acceptable for full credit toward a degree;

(4) Is a public or other nonprofit institution; and

(5) Is accredited by a nationally recognized accrediting agency or association, or if not so accredited, is an institution that has been granted preaccreditation status by such an agency or association that has been recognized by the Secretary of Education for the granting of preaccreditation status, and the Secretary has determined that there is satisfactory assurance that the institution will meet the accreditation standards of such an agency or association within a reasonable time.

Partner University. A CAE that has joined in academic partnership with the NDU IRMC to award master's and doctoral degrees through the DoD IASP.

Principal Investigator. The primary point of contact at each CAE, responsible for publicizing the DoD IASP to potential recruitment students and working with students during the application process. Principal investigators also serve as the primary contact for recruitment students and retention students who have transferred from the IRMC to a partner university.

Recruitment Program. The portion of the DoD IASP available to qualified non-DoD students currently enrolled or accepted for enrollment at a designated CAE.

Recruitment Students. Non-DoD students currently enrolled at a designated CAE who are active participants in the DoD IASP recruitment program.

Retention Program. The portion of the DoD IASP available to full-time, active duty Service personnel and permanent civilian employees of the DoD Components.

Retention Students. Full-time active duty Service personnel and permanent civilian employees of the DoD Components who are active participants in the DoD IASP retention program.

§ 240.4 Policy.

It is DoD policy that:

(a) The Department of Defense shall recruit, develop, and retain a highly skilled cadre of professionals to support the critical IA and information technology (IT) management, technical, digital and multimedia forensics, cyber, and infrastructure protection functions required for a secure network-centric environment.

(b) The DoD IASP shall be used to attract new entrants to the DoD IA and IT workforce and to retain current IA and IT personnel necessary to support the DoD's diverse warfighting, business, intelligence, and enterprise information infrastructure requirements.

(c) The academic disciplines, with concentrations in IA eligible for IASP support include, but are not limited to: biometrics, business management or administration, computer crime investigations, computer engineering, computer programming, computer science, computer systems analysis, cyber operations, cybersecurity, database administration, data management, digital and multimedia forensics, electrical engineering, electronics engineering, information security (assurance), information systems, mathematics, network management/operations, software engineering, and other similar disciplines as approved by DoD Chief Information Officer (DoD CIO).

(d) Subject to availability of funds, the DoD may provide grants to institutions of higher education for faculty, curriculum, and infrastructure development and academic research to support the DoD IA/IT critical areas of interest.

§ 240.5 Responsibilities.

(a) The Department of Defense Chief Information Officer (DoD CIO) shall:

(1) Establish overall policy and guidance to conduct and administer the DoD IASP pursuant to Deputy Secretary of Defense Memorandum, “Delegation of Authority and Assignment of Responsibility under section 922 of the Floyd D. Spence National Defense Authorization Act for Fiscal Year 2001,” October 30, 2000.

(2) Develop an annual budget recommendation to administer the DoD IASP and provide academic scholarships and grants in accordance with 10 U.S.C. 2200 and 7045.

(3) Oversee program administration and execution by the Director, National Security Agency (DIRNSA).

(4) Chair the DoD IASP Steering Committee, established pursuant to DoD Instruction 5105.18, to oversee and provide program direction over:

(i) Student eligibility criteria.

(ii) Grant and capacity building selection criteria for awards to CAEs.

(iii) Final approval for the allocation of individual DoD IASP scholarships and grants.

(iv) Communications and marketing plans.

(v) DoD IASP metrics and analysis of performance results, including student and CAE/IAE feedback.

(b) The DIRNSA, under the authority, direction, and control of the Under Secretary of Defense for Intelligence, shall:

(1) Serve as the DoD IASP Executive Administrator to:

(i) Implement the DoD IASP and publish in writing all of the criteria, procedures, and standards required for program implementation. Responsibilities are to:

(A) Implement the scholarship application and selection procedures for recruitment and retention students.

(B) Establish procedures for recruiting students to meet service obligations through employment with a DoD Component upon graduation from their academic program.

(C) Ensure that all students' academic eligibility is maintained, service obligations are completed, and that reimbursement obligations for program disenrollment are fulfilled.

(D) Establish procedures for CAEs and employing DoD Components to report on students' progress.

(E) Maintain appropriate accounting for all funding disbursements.

(F) Execute the debt collection process on the behalf of the DoD and in accordance with Volume 5 of DoD 7000.14-R for scholarship recipients who fail to complete a period of obligated service resulting from their participation in the DoD IASP. This includes, but is not limited to, exercising the authority under 10 U.S.C. 2200a(e), consistent with the relevant provisions of 37 U.S.C. 303a(e), to determine an amount owed and to take necessary actions to collect the amount owed, and to act upon requests for waivers, in whole or in part, when determined to be appropriate.

(ii) Subject to availability of funds, make grants on behalf of the DoD CIO to institutions of higher education to support the establishment, improvement, and administration of IA education programs pursuant to 10 U.S.C. 2200, 2200b, and 7045.

(A) Develop and implement the annual solicitation for proposals for grants.

(B) Coordinate the review process for grant proposals.

(C) Distribute grant funding and maintain appropriate accounting.

(D) Establish annual reporting procedures for grant recipients (CAEs) to detail the resulting accomplishments of their grant implementations.

(E) Obtain written documentation from grant recipients (CAEs) on how grant funding was utilized and the resulting accomplishments.

(2) Provide representation to the DoD IASP Steering Committee and provide briefings and reports, as required, to effect proper oversight by the DoD CIO and the DoD IASP Steering Committee.

(3) Maintain databases to support the analysis of performance results.

(c) The Chancellor of the Information Resources Management College (IRMC) of the National Defense University, under the authority, direction and control of the Chairman of the Joint Chiefs of Staff, shall:

(1) Establish partner university agreements with CAEs to provide master's and doctoral degree opportunities to current, former, and future IRMC students who are awarded retention scholarships.

(2) Maintain records of DoD IASP student enrollments and graduates and provide data to the DoD IASP Executive Administrator and the DoD CIO as required.

(3) Serve as the liaison between IRMC retention students, their follow-on partner university, and the DoD IASP Executive Administrator.

(4) Provide academic representation to the DoD IASP Steering Committee and provide briefings and reports, as required, on the IRMC portion of the DoD IASP retention program.

(d) The Heads of the DoD Components shall:

(1) Determine the requirement for DoD IASP usage as a primary vehicle to recruit and retain IA and IT personnel.

(2) Identify the office of primary responsibility for administering the DoD IASP within their DoD Component.

(3) Establish DoD Component-specific nomination, selection, and post-academic assignment criteria for DoD IASP retention students.

(i) Nominated personnel shall be high performing employees who are rated at the higher levels of the applicable performance appraisal system and demonstrate sustained quality performance with the potential for increased responsibilities. All individuals must be US citizens and be able to obtain a security clearance.

(ii) Nominations must fulfill specific personnel development requirements for both the individual nominee and the nominating organization.

(iii) Salaries of retention scholarship recipients shall be paid by the nominating DoD Component. When deemed necessary, DoD Components are responsible for personnel backfill while recipients are in school.

(iv) Payback assignments of graduated students shall provide relevant, follow-on utilization of academic credentials in accordance with DoD Component mission requirements.

(v) Retention students shall fulfill post-academic service obligations pursuant to 10 U.S.C. 2200 and 7045. Members of the Military Services shall serve on active duty while fulfilling designated DoD Component service obligations. DoD civilian employees shall sign a continued service agreement that complies with section 2200 of title 10, United States Code, prior to commencement of their education, to continue service within the Department of Defense upon conclusion of their education, for a period equal to three times the length of the education period. The period of obligated service is in addition to any other period for which the recipient is obligated to serve on active duty or in the civil service, as the case may be. Individuals, who fail to complete the degree program satisfactorily, or to fulfill the service commitment, shall be required to reimburse the United States pursuant to 10 U.S.C. 2200a(e) for payments paid to them through the DoD IASP unless a waiver, in whole or in part, is granted by the DoD IASP Executive Administrator. Head of Components are responsible to ensure enforcement of these agreements.

(4) Determine annual billet requirements for recruitment students (the number of DoD IASP recruitment scholars who will be placed in full-time employment positions with the Component upon graduation). This is required to ensure that IASP recruitment graduates have placement upon graduation. DoD Components who identify billet requirements for recruitment students shall:

(i) Assess DoD Component skill requirements to determine skill gaps and providing the annual recruitment student requirement to the DoD IASP Executive Administrator.

(ii) Participate in the selection process for recruitment students.

(iii) Coordinate and process security clearances for selected recruitment scholarship recipients.

(iv) Allocate billets for an internship period (if applicable).

(v) Assign mentors to recruitment students.

(vi) Determine post-academic billet assignments for recruitment students prior to the end of the students' academic program.

(5) Participate in the evaluation processes to assess and recommend improvements to the DoD IASP.

§ 240.6 Retention program.

(a) The DoD IASP retention program is open to qualified DoD civilian employees and Service members. Active duty military officers and permanent DoD civilian employees may apply for a master's or doctoral degree program; enlisted personnel may apply for a master's program. DoD Components may further restrict the eligibility of applicants based on Component requirements.

(b) There are three DoD academic institutions participating in the DoD IASP: the Air Force Institute of Technology (AFIT) at Wright-Patterson Air Force Base in Dayton, Ohio; the IRMC of the National Defense University (NDU) at Fort McNair in Washington, DC; and the Naval Postgraduate School (NPS) in Monterey, California. Students at AFIT and NPS attend full-time programs. Participants may attend the IRMC either full or part-time to complete the first part of their required courses and then select a follow-on partner university to complete their remaining degree requirements either full or part-time. There are no part-time doctoral programs. All candidates must meet the eligibility requirements for their selected program, which are outlined in DoD IASP Academic Programs for Retention Students.

(1) Military officers and DoD civilian employees may apply to attend any one of the three DoD academic institutions.

(2) Enlisted personnel may attend AFIT or the NPS, which is authorized to enroll enlisted DoD IASP participants pursuant to 10 U.S.C. 2200 and 7045.

(c) Students must select a degree program in one of the academic disciplines listed in § 240.4(c) and in accordance with DoD Component requirements.

(d) Scholarship funding for AFIT, IRMC, the partner universities, and NPS includes full tuition costs and required fees and books. All travel costs and necessary position back-fill for individuals selected for the program must be paid by the nominating DoD Component. Retention students shall continue to receive their military pay or civilian salary from their DoD Component throughout their course of study.

(e) DoD Component nominations are due by January 31st each year. The student nomination process is outlined in the DoD IASP Nomination Process for Retention Students.

(f) Retention students shall fulfill post-academic service obligations pursuant to 10 U.S.C. 2200a and 7045. Service members shall serve on active duty while fulfilling designated DoD Component service obligations. DoD civilian employees shall sign a continued service agreement that complies with 10 U.S.C. 2200a, prior to commencement of their education, to continue service within the DoD upon conclusion of their education, for a period equal to three times the length of the education period. The period of obligated service is in addition to any other period for which the recipient is obligated to serve on active duty or in the civil service, as the case may be. Individuals who fail to complete the degree program satisfactorily or to fulfill the service commitment shall be required to reimburse the United States pursuant to 10 U.S.C. 2200a(e) for payments made to them through the DoD IASP unless a waiver, in whole or in part, is granted by the DoD IASP Executive Administrator.

(g) DoD IASP retention participants are obligated to remain in good standing in their degree programs, to continue in service as civilian employees or members of the Military Services, and where applicable, to repay program costs for failure to complete the degree program satisfactorily, or to fulfill the service commitment pursuant to 10 U.S.C. 2200 and 7045, DoD policy, and the policies of the respective DoD Component.

§ 240.7 Recruitment program.

(a) Annually, in November, the DoD IASP Executive Administrator announces a solicitation for proposal from CAEs interested in participating in the DoD IASP. Graduate students and rising junior or senior undergraduates accepted at or enrolled in one of these institutions may apply for full scholarships to complete a bachelor's, master's, or a doctoral degree, or graduate (post-baccalaureate) certificate program in one of the disciplines defined in § 240.4(c). Student application requirements are included in the solicitation proposal released by NSA.

(b) DoD Component recruitment student requirements are due to the DoD IASP Executive Administrator each year by January 31st.

(c) The student selection process occurs annually in April. The selection process is outlined in the DoD IASP Nomination Process for Recruitment Students.

(d) Recruitment students are provided scholarships, covering the full cost of tuition and selected books and fees. Students are also provided a stipend to cover room and board expenses.

(e) Recruitment students may be required to complete a student internship, depending on the length of their individual scholarship. For example, if a scholar receives a scholarship their junior year, an internship is required. If they receive the scholarship their senior year, an internship is not required. DoD Components typically use the authority granted in 5 CFR 213.3102(r) to arrange the internship.

(f) Pursuant to 10 U.S.C. 2200a, all recruitment students shall sign a service agreement prior to commencement of their education and incur a service commitment, which commences after the award of the DoD IASP authorized degree on a date to be determined by the relevant DoD Component. The obligated service in DoD shall be as a civilian employee of the Department or as an active duty enlisted member or officer in one of the Military Services.

(1) Individuals selecting employment in the civil service shall incur a service obligation of 1 year of service to the DoD upon graduation for each year or partial year of scholarship they receive, in addition to an internship, if applicable. Pursuant to the authority granted in 10 U.S.C. 2200a(g) and the Under Secretary of Defense for Personnel and Readiness Memorandum, “Implementation Authority to Employ Individuals Completing Department of Defense Scholarship or Fellow Programs,” April 5, 2010. DoD Components may appoint DoD IASP graduates to IT positions as members of the excepted service. Upon satisfactory completion of 2 years of substantially continuous service, DoD Components may then convert these individuals to career or career-conditional appointments without competition.

(2) Individuals enlisting or accepting a commission to serve on active duty in one of the Military Services shall incur a service obligation of a minimum of 4 years on active duty in that Service upon graduation. The Military Services may establish a service obligation longer than 4 years, depending on the occupational specialty and type of enlistment or commissioning program selected.

(g) Individuals in the recruitment program who fail to complete the degree program satisfactorily or to fulfill the service commitment upon graduation shall be required to reimburse the United States pursuant to 10 U.S.C. 2200a(e) for payments made to them through the DoD IASP unless a waiver, in whole or in part, is granted by the DoD IASP Executive Administrator.

Dated: February 29, 2012.
Patricia L. Toppings,
OSD Federal Register Liaison Officer, Department of Defense.

[FR Doc. 2012-6163 Filed 3-13-12; 8:45 am]

BILLING CODE 5001-06-P